ENVIRONMENTAL PROTECTION AGENCY

[EPA-HQ-OEI-2011-0096; FRL-9918-82-OEI]

Proposed Information Collection Request; Comment Request; Cross-Media Electronic Reporting Rule

AGENCY: Environmental Protection Agency.

ACTION: Notice.

SUMMARY: The Environmental Protection Agency (EPA) is planning to submit an information collection request (ICR), “Cross-Media Electronic Reporting Rule” (EPA ICR No. 2002.06, OMB Control No. 2025-0003) to the Office of Management and Budget (OMB) for review and approval in accordance with the Paperwork Reduction Act (44 U.S.C. 3501 et seq.). Before doing so, EPA is soliciting public comments on specific aspects of the proposed information collection as described below. This is a proposed extension of the ICR, which is currently approved through April 30, 2015. An Agency may not conduct or sponsor and a person is not required to respond to a collection of information unless it displays a currently valid OMB control number.

DATES: Comments must be submitted on or before January 5, 2015.

ADDRESSES: Submit your comments, referencing Docket ID No. EPA-HQ-OEI-2011-0096, online using www.regulations.gov (our preferred method), by email to oei.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Karen Seeh, Office of Environmental Information, (2823T), Environmental Protection Agency, 1200 Pennsylvania Ave. NW., Washington, DC 20460; telephone number: 202-566-1175; fax number: 202-566-1684; email address: seeh.karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The scope of this ICR is the electronic reporting components of CROMERR, which is designed to: (i) Allow EPA to comply with the Government Paperwork Elimination Act of 1998; (ii) provide a uniform, technology-neutral framework for electronic reporting across all EPA programs; (iii) allow EPA programs to offer electronic reporting as they become ready for CROMERR; and (iv) provide states with a streamlined process—together with a uniform set of standards—for approval of their electronic reporting provisions for all their EPA-authorized programs. Responses to the collection of information are voluntary. In order to accommodate CBI, the information collected must be in accordance with the confidentiality regulations set forth in 40 CFR Part 2, Subpart B. Additionally, EPA will ensure that the information collection procedures comply with the Privacy Act of 1974 and the OMB Circular 108.

Form Numbers: None.

Respondents/affected entities: Entities that report electronically to EPA and state or local government authorized programs; and state and local government authorized programs implementing electronic reporting.

Respondent's obligation to respond: Voluntary, required to obtain or retain a benefit (Cross-Media Electronic Reporting Rule (CROMER) established to ensure compliance with the Government Paperwork Elimination Act (GPEA)).

Estimated number of respondents: 102,387 (total).

Frequency of response: On occasion.

Total estimated burden: 38,491 hours (per year). Burden is defined at 5 CFR 1320.03(b).

Total estimated cost: $2,086,380 (per year), including $1,438,861 in annualized labor costs and $647,519 in annualized capital or operation & maintenance costs.

Changes in Estimates: There is a decrease of 1,272 hours in the total estimated respondent burden compared with the ICR currently approved by OMB. This decrease occurred primarily because there was a decrease in the total annual number of employees complying with CROMERR's identity proofing requirements. In estimating the annual number of employees complying with the CROMERR's identity proofing requirements for this ICR, EPA was able to take advantage of improvements in data software and hardware capabilities and thus, develop estimates based on actual data instead of the complex calculations used in the currently approved ICR. In particular, EPA was able to obtain actual numbers and growth rates for the annual number of subscriber agreements submitted to CDX over the past several years. These data were used to improve the estimate for the annual number of subscriber agreements submitted by direct reporters. EPA believes that the respondent estimates included in this ICR are a reasonable approximation of the actual respondent universe.

Dated: October 28, 2014.
Connie Dwyer,
Director, Information Exchange and Services Division.

[FR Doc. 2014-26178 Filed 11-3-14; 8:45 am]

BILLING CODE 6560-50-P